ENVIRONMENTAL PROTECTION AGENCY

40 CFR Part 52

[EPA-R07-OAR-2013-0483; FRL-9905-20-Region 7]

Approval and Promulgation of Implementation Plans and Title V Operating Permit Program; State of Iowa

AGENCY: Environmental Protection Agency (EPA).

ACTION: Proposed rule.

SUMMARY: The Environmental Protection Agency (EPA) is proposing to approve revisions to the State Implementation Plan (SIP) for the state of Iowa. These revisions will amend the Iowa air quality rules to eliminate state-only emissions testing procedures and adopt Federal methods; to reduce notification time for portable plant relocations, and allow electronic submittals of notifications; to update air quality definitions to be consistent with Federal definitions, and to place into rule the specific procedures for conducting emissions testing.

EPA is also proposing to approve revisions to the Iowa Title V Operating Permits Program to revise the definition of “EPA Reference Method,” and to adopt by reference the revised Title V Periodic Monitoring Guidance.

DATES: Comments on this proposed action must be received in writing by February 18, 2014.

ADDRESSES: Submit your comments, identified by Docket ID No. EPA-R07-OAR-2013-0483 by one of the following methods:

1. http://www.regulations.gov: Follow the on-line instructions for submitting comments.

2. Email: algoe-eakin.amy@epa.gov.

3. Mail: Amy Algoe-Eakin, Environmental Protection Agency, Air Planning and Development Branch, 11201 Renner Road, Lenexa, Kansas 66219.

4. Hand Delivery or Courier. Deliver your comments to: Amy Algoe-Eakin, Environmental Protection Agency, Air Planning and Development Branch, 11201 Renner Road, Lenexa, Kansas 66219. Such deliveries are only accepted during the Regional Office's normal hours of operations. The Regional Office's official hours of business are Monday through Friday, 8:00 to 4:30, excluding legal holidays.

Please see the direct final rule which is located in the Rules section of this Federal Register for detailed instructions on how to submit comments.

FOR FURTHER INFORMATION CONTACT: Amy Algoe-Eakin at (913) 551-7942, or by email at algoe-eakin.amy@epa.gov.

SUPPLEMENTARY INFORMATION: In the final rules section of the Federal Register, EPA is approving the state's revision to the SIP as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rules based on this proposed action. EPA will not institute a second comment period on this action. Any parties interested in commenting on this action should do so at this time. Please note that if EPA receives adverse comments on part of this rule and if that part can be severed from the remainder of the rule, EPA may adopt as final those parts of the rule that are not the subject of an adverse comment. For additional information, see the direct final rule which is located in the rules section of this Federal Register.

Dated: December 23, 2013.
Karl Brooks,
Regional Administrator, Region 7.

[FR Doc. 2014-00655 Filed 1-15-14; 8:45 am]

BILLING CODE 6560-50-P